FEDERAL RETIREMENT THRIFT INVESTMENT BOARD

Sunshine Act; Notice of Meeting

TIME AND DATE: 9:00 a.m. (Eastern Time) April 22, 2013.

PLACE: 10th Floor Training Room, 77 K Street NE., Washington, DC 20002.

STATUS: Parts will be open to the public and parts closed to the public.

MATTERS TO BE CONSIDERED:

Parts Open to the Public

1. Approval of the Minutes of the March 25, 2013 Board Member Meeting

2. Approval of the Minutes of the October 9, 2012 ETAC Meeting

3. Thrift Savings Plan Activity Reports by the Executive Director

a. Monthly Participant Activity Report

b. Quarterly Investment Policy Report

c. Legislative Report

4. Quarterly Vendor Financials

5. Annual Financial Audit—Clifton Larson Allen (CLA)

6. Office of Enterprise Planning Report

7. Default Investment Fund Option

8. Communications Update

9. Sequestration and the TSP

Parts Closed to the Public

1. Procurement

CONTACT PERSON FOR MORE INFORMATION: Kimberly Weaver, Director, Office of External Affairs, (202) 942-1640.

Dated: April 15, 2013.
James B. Petrick,
Secretary, Federal Retirement Thrift Investment Board.

[FR Doc. 2013-09117 Filed 4-15-13; 11:15 am]

BILLING CODE 6760-01-P